NUCLEAR REGULATORY COMMISSION

[Docket No. 50-609; NRC-2013-0235]

Northwest Medical Isotopes, LLC Medical Radioisotope Production Facility

AGENCY: Nuclear Regulatory Commission.

ACTION: Termination of construction permit.

SUMMARY: The U.S. Nuclear Regulatory Commission (NRC) is terminating the Northwest Medical Isotopes, LLC (NWMI) Medical Radioisotope Production Facility (RPF) construction permit (permit) designated as CPMIF-002. The permit authorized NWMI to construct the RPF in Columbia, Missouri. Construction was not initiated for the RPF, and nuclear materials were never procured or possessed under this permit. Consequently, the RPF site is approved for unrestricted use.

DATES: The letter terminating Construction Permit No. CPMIF-002 was issued on July 11, 2022.

ADDRESSES: Please refer to Docket ID NRC-2013-0235 when contacting the NRC about the availability of information regarding this document. You may obtain publicly available information related to this document using any of the following methods:

• Federal Rulemaking Website: Go to https://www.regulations.gov and search for Docket ID NRC-2013-0235. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Michael Balazik, Office of Nuclear Reactor Regulation, U.S. Nuclear Regulatory Commission, Washington, DC 20555-0001; telephone: 301-415-2856; email: Michael.Balazik@nrc.gov.

SUPPLEMENTARY INFORMATION:

I. Introduction

On May 9, 2018, the NRC issued Construction Permit No. CPMIF-002 to NWMI to authorize the construction of the RPF. Since the issuance of the permit, NWMI has not begun construction of the RPF or procured nuclear materials for use under the permit. By letter dated February 7, 2022, NWMI stated that the RPF will not be constructed and requested that the NRC terminate Construction Permit No. CPMIF-002. NWMI also stated that no physical or principal activities authorized by the permit, other than a geotechnical survey, were performed at the permitted site at Lot 15 of Discovery Ridge in Columbia, Missouri. The geotechnical survey was required by condition 3.G of the permit and consisted of borings used to determine the local soil stratigraphy. NWMI further stated that no other work was conducted at the site and that the University of Missouri continues to own the land, which remains undeveloped.

II. License Termination

Termination of licenses and permits issued under part 50 of title 10 of the Code of Federal Regulations (10 CFR) is governed by 10 CFR 50.82, “Termination of license.” As discussed in “Current NRC Staff Views on Applying the Deferred Plant Policy Statement to Part 52 Plants,” the NRC staff does not apply the requirements for license termination in 10 CFR 50.82 to facilities that have not begun operation. Additionally, there was no construction associated with the NWMI RPF permit and nuclear materials were never procured or possessed under the permit. As such, with no radiological contamination associated with the permit, the RPF site may be released for unrestricted use pursuant to 10 CFR 20.1402, “Radiological criteria for unrestricted use.”

III. Environmental Review

NWMI seeks to terminate the RPF permit for which construction never commenced and nuclear materials were never procured or brought on site. Terminating a construction permit is a licensing action that would ordinarily require an environmental assessment under 10 CFR 51.21, “Criteria for and identification of licensing and regulatory actions requiring environmental assessments,” unless a categorical exclusion in 10 CFR 51.22, “Criterion for categorical exclusion; identification of licensing and regulatory actions eligible for categorical exclusion or otherwise not requiring environmental review,” paragraph (c) applies and no special circumstances under 10 CFR 51.22(b) exist. Actions listed in 10 CFR 51.22(c) were previously found by the Commission to be part of a category of actions that “does not individually or cumulatively have a significant effect on the human environment.”

The categorical exclusion identified in 10 CFR 51.22(c)(20) is:

Decommissioning of sites where licensed operations have been limited to the use of—

(i) Small quantities of short-lived radioactive materials;

(ii) Radioactive materials in sealed sources, provided there is no evidence of leakage of radioactive material from these sealed sources; or

(iii) Radioactive materials in such a manner that a decommissioning plan is not required by 10 CFR 30.36(g)(1), 40.42(g)(1), or 70.38(g)(1) and the NRC has determined that the facility meets the radiological criteria for unrestricted use in 10 CFR 20.1402 without further remediation or analysis.

This categorical exclusion encompasses decommissioning of sites where contamination from radioactive materials is determined to be nominal.

In the case of the NWMI RPF, no associated radiological contamination exists because construction never commenced and nuclear material was never procured or brought on site. As a result, a decommissioning plan for this site is not required by subparagraph (g)(1) of 10 CFR 30.36, “Expiration and termination of licenses and decommissioning of sites and separate buildings or outdoor areas,” subparagraph (g)(1) of 10 CFR 40.42, “Expiration and termination of licenses and decommissioning of sites and separate buildings or outdoor areas,” or subparagraph (g)(1) of 10 CFR 70.38, “Expiration and termination of licenses and decommissioning of sites and separate buildings or outdoor areas,” and the site meets the radiological criteria for unrestricted use in 10 CFR 20.1402 without further remediation or analysis. Further, no special circumstances under 10 CFR 51.22(b) exist. The factors listed in 10 CFR 51.22(c)(20) are consistent with the circumstances here because there is no environmental impact associated with terminating the NWMI RPF permit, which is even less than the nominal impacts anticipated by the categorical exclusion. Therefore, application of the categorical exclusion to the termination of the NWMI RPF permit is warranted. Consequently, pursuant to 10 CFR 51.22(b), no environmental impact statement or environmental assessment need be prepared in connection with the termination of Construction Permit No. CPMIF-002.

IV. Availability of Documents

The documents identified in the following table are available to interested persons through ADAMS, as indicated.

Document | ADAMS accession No.
U.S. Nuclear Regulatory Commission, Northwest Medical Isotopes, LLC—Termination of Construction Permit No. CPMIF-002 (EPID No. L-2022-LLL-0007), dated July 11, 2022 | ML22147A157
Northwest Medical Isotopes, LLC, Request for Termination of Northwest Medical Isotopes, LLC (NWMI) Construction Permit No. CPMIF-002 (Docket No. 50-609), dated February 7, 2022 | ML22084A004
U.S. Nuclear Regulatory Commission, Construction Permit No. CPMIF-002 for Northwest Medical Isotopes, LLC, Docket No. 50-609, Medical Radioisotope Production Facility, dated May 9, 2018 | ML18037A468
U.S. Nuclear Regulatory Commission, Current NRC Staff Views on Applying the Deferred Plant Policy Statement to Part 52 Plants, dated March 6, 2018 | ML18065B257

V. Conclusion

As previously discussed, the Commission has determined that the NWMI RPF permit termination request meets the categorical exclusion criteria set forth in 10 CFR 51.22(c)(20) and that the unrestricted use criteria pursuant to 10 CFR 20.1402 are met.

The Commission grants NWMI's request to terminate Construction Permit No. CPMIF-002. This license termination was effective upon NWMI's receipt of the NRC's termination letter, dated July 11, 2022.

Dated: July 13, 2022.
For the Nuclear Regulatory Commission.
Joshua M. Borromeo,
Chief, Non-Power Production and Utilization Facility Licensing Branch, Division of Advanced Reactors and Non-Power Production and Utilization Facilities, Office of Nuclear Reactor Regulation.

[FR Doc. 2022-15282 Filed 7-15-22; 8:45 am]

BILLING CODE 7590-01-P